POSTAL SERVICE

39 CFR Part 501

Authorization To Manufacture and Distribute Postage Meters

AGENCY: Postal Service.

ACTION: Final rule.

SUMMARY: This final rule clarifies and strengthens requirements for manufacturers/distributors of postage meters to destroy meters at the end of their useful life.

DATES: This rule is effective November 1, 2001.

FOR FURTHER INFORMATION CONTACT: Wayne Wilkerson by fax at (703) 292-4073.

SUPPLEMENTARY INFORMATION: When a postage meter, or other postage evidencing system, reaches the end of its useful life, it must be destroyed so as to eliminate potential misuse or fraud which could lead to loss of Postal Service revenue. To accomplish this objective, the Postal Service is publishing procedures for the destruction of meters.

List of Subjects in 39 CFR Part 501

Administrative practice and procedure, Postal Service.

The Amendment

For the reasons set out in this document, the Postal Service is amending 39 CFR part 501 as follows:

PART 501—AUTHORIZATION TO MANUFACTURE AND DISTRIBUTE POSTAGE METERS

1. The authority citation for 39 CFR part 501 continues to read as follows:

Authority: 5 U.S.C. 552(a); 39 U.S.C. 101, 401, 403, 404, 410, 2601, 2605; Inspector General Act of 1978, as amended (Pub. L. 95-452, as amended), 5 U.S.C. App. 3.

§§ 501.18 through 501.29 [Redesignated as §§ 501.19 through 501.30]

Sections 501.18 through 501.29 are redesignated as §§ 501.19 through 501.30 and new § 501.18 is added to read as follows:

§ 501.18 Secure destruction.

(a) Authorized meter manufacturers/distributors may destroy meters, when required, in accordance with methods approved in advance by the manager of Postage Technology Management. The postage meter must be rendered completely inoperable by the destruction process and associated postage-printing dies must be destroyed in accordance with § 501.17. Manufacturers/distributors must submit the proposed destruction method; a schedule listing the meters to be destroyed, by serial number and model; and the proposed time and place of destruction to the manager of Postage Technology Management for approval prior to any meter destruction. Manufacturers/distributors must record and retain the serial numbers of the meters to be destroyed, and provide the list in electronic form in accordance with Postal Service requirements for postage meter accounting and tracking systems. Manufacturers/distributors must give sufficient advance notice of the destruction to allow the manager of Postage Technology Management to schedule observation by Postage Technology Management or its designated representative. The Postal Service representative must ensure that the serial numbers of the meters destroyed are the same as the serial numbers recorded by the manufacturer/distributor on the list of destroyed meters, and that the destruction is performed in accordance with a Postal Service-approved method or process.

(b) These requirements for meter destruction apply to all postage meters, postage evidencing systems, and postal security devices included as a component of a postage evidencing system.

Stanley F. Mires,
Chief Counsel, Legislative.

[FR Doc. 01-27462 Filed 10-31-01; 8:45 am]

BILLING CODE 7710-12-P